PRESIDIO TRUST

Notice of Public Meeting

AGENCY: The Presidio Trust.

ACTION: Notice of public meeting.

SUMMARY: In accordance with § 103(c)(6) of the Presidio Trust Act, 16 U.S.C. § 460bb note, Title I of Pub. L. 104-333, 110 Stat. 4097, and in accordance with the Presidio Trust's bylaws, notice is hereby given that a public meeting of the Presidio Trust Board of Directors will be held from 6 p.m. to 8:30 p.m. on Thursday, June 13, 2002, at the Officers' Club, 50 Moraga Avenue, Presidio of San Francisco, California. The Presidio Trust was created by Congress in 1996 to manage approximately eighty percent of the former U.S. Army base known as the Presidio, in San Francisco, California.

The purpose of this meeting is to provide an opportunity for the public to ask questions regarding the Presidio Trust Management Plan, Land Use Policies for Area B of The Presidio of San Francisco (PTMP) and associated Final Environmental Impact Statement (Final EIS).

Time: The meeting will be held from 6 p.m. to 8:30 p.m. on Thursday, June 13, 2002.

ADDRESSES: The meeting will be held at the Officers' Club, 50 Moraga Avenue, Presidio of San Francisco.

Agenda: The agenda of the meeting is (1) a presentation of PTMP highlights; and (2) a Public Comment Period: Question and Answer Session regarding PTMP and associated Final EIS.

FOR FURTHER INFORMATION CONTACT: Karen Cook, General Counsel, the Presidio Trust, 34 Graham Street, P.O. Box 29052, San Francisco, California 94129-0052, Telephone: (415) 561-5300.

Dated: May 22, 2002.
Karen A. Cook,
General Counsel.

[FR Doc. 02-13310 Filed 5-24-02; 8:45 am]

BILLING CODE 4310-4R-P